DEPARTMENT OF TRANSPORTATION

Federal Railroad Administration

Notice of Funds Availability and Request for Comment To Assist in the Development and Implementation of a Procedure for Fair Competitive Bidding by Amtrak and Non-Amtrak Operators of State-Supported Intercity Passenger Rail Routes

AGENCY: Federal Railroad Administration (FRA), Department of Transportation (DOT).

ACTION: Notice; extension of comment period and due date for Statements of Interest.

SUMMARY: On April 13, 2004, FRA published a Notice of Funds Availability and Request for Comment in the Federal Register (69 FR 19612) soliciting comments from interested parties on how the Secretary of Transportation, working with affected States, could develop and implement a procedure for fair competitive bidding by Amtrak and non-Amtrak operators for State-supported intercity passenger rail routes. FRA also encouraged interested States to submit a Statement of Interest in receiving a grant to support an initiative leading to a fair and open competitive selection of an operator to provide passenger rail service over a specific intercity route that receives or will receive State financial support. Responses to the notice were due on or before May 28, 2004. In order to provide interested applicants with additional time to submit Statements of Interest or comments, FRA has decided to extend the due date for these submissions until June 28, 2004. All of the other requirements included in the original Notice of Funds Availability and Request for Comment remain unchanged.

DATES: All submissions of Statements of Interest and comments must be received in FRA's offices by close of business Monday, June 28, 2004. As described in the original notice, the deadline for the submission of applications will be noted in the solicitation from FRA to prospective grantees as a result of the evaluation of the Statements of Interest.

ADDRESSES: Applicants and/or commenters must submit an original and six (6) copies to the FRA at one of the following addresses:

Postal address (note correct zip code): Federal Railroad Administration, Attention: Alex Chavrid, Chief, Passenger Programs Division (RDV-11), Mail Stop #20, 1120 Vermont Ave., NW., Washington, DC 20590.

FedEx/courier address (note correct zip code): Federal Railroad Administration, Attention: Alex Chavrid, Chief, Passenger Programs Division, (RDV-11), Room #773, 1120 Vermont Ave., NW., Washington, DC 20005.

Due to delays caused by enhanced screening of mail delivered via the U.S. Postal Service, applicants are encouraged to use other means to assure timely receipt of materials.

FOR FURTHER INFORMATION CONTACT: Mark Yachmetz, Associate Administrator for Railroad Development (RDV-1), FRA, 1120 Vermont Avenue NW., Washington, DC 20590. Phone: (202) 493-6381; Fax: (202) 493-6330.

Issued in Washington, DC on May 25, 2004.
Mark E. Yachmetz,
Associate Administrator for Railroad Development.

[FR Doc. 04-12330 Filed 5-28-04; 8:45 am]

BILLING CODE 4910-06-P